DEPARTMENT OF THE INTERIOR

National Park Service

Notice of Inventory Completion: Hastings Museum of Natural and Cultural History, Hastings, NE

AGENCY: National Park Service, Interior.

ACTION: Notice.

Notice is here given in accordance with the Native American Graves Protection and Repatriation Act (NAGPRA), 25 U.S.C. 3003, of the completion of an inventory of human remains in the possession of Hastings Museum of Natural and Cultural History (Hastings Museum), Hastings, NE. The human remains were removed from Stanley Mound, also known as Parkin site (3CS29), Cross County, AR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Hastings Museum professional staff in consultation with representatives of the Quapaw Tribe of Indians, Oklahoma.

On an unknown date, human remains representing a minimum of one individual were removed from Stanley Mound in Cross County, AR. The human remains were donated to the Hastings Museum by an unknown donor and cataloged into the collection between 1926 and 1931. No known individual was identified. Museum records state that three pottery vessels were found with the human remains, but they were not accessioned into the collection. No associated funerary objects are present.

The human remains are of Native American descent. Dental attrition is consistent with an individual from the Mississippian period. Research provided by the Quapaw Tribe of Indians, Oklahoma, conducted through the Arkansas Archeological Survey, indicate that Stanley Mound is also known as the Parkin site (3CS29). The Parkin site was first excavated in 1879 and sits on land once owned by John Stanley (for which the mound was named). The site is one of the best preserved villages from the Mississippian period.

The Parkin site is a fortified village located on the St. Francis River in northeastern Arkansas. The site consists of several mounds, and plazas surrounded by rows of houses. The site has yielded thousands of artifacts, including potsherds and complete grave pottery. Although the pottery was not accessioned into the Hastings Museum collection, the records show that they are consistent with other funerary objects found at the Parkin site. Researchers suggest that the Parkin site represents a late Mississippian chiefdom to the early Protohistoric Period, an era spanning from A.D. 1350 to 1600. The site is believed to be the village of Casqui, which was visited by Spanish explorer Hernando de Soto. French documents dating to circa A.D. 1700, indicate that the Quapaw were the only people to have villages along the St. Francis River in eastern Arkansas. Quapaw oral tradition supports this documentation.

Officials of the Hastings Museum have determined that, pursuant to 25 U.S.C. 3001 (9-10), the human remains described above represent the physical remains of one individual of Native American ancestry. Officials of the Hastings Museum also have determined that, pursuant to 25 U.S.C. 3001 (2), there is a relationship of shared group identity that can be reasonably traced between the Native American human remains and the Quapaw Tribe of Indians, Oklahoma.

Representatives of any other Indian tribe that believes itself to be culturally affiliated with the human remains should contact Teresa Kreutzer-Hodson, Hastings Museum of Natural and Cultural History, PO Box 11286, Hastings, NE 68902, telephone (402) 461-2399, before September 12, 2008. Repatriation of the human remains to the Quapaw Tribe of Indians, Oklahoma may proceed after that date if no additional claimants come forward.

The Hastings Museum is responsible for notifying the Quapaw Tribe of Indians, Oklahoma that this notice has been published.

Dated: July 22, 2008
Sherry Hutt,
Manager, National NAGPRA Program.

[FR Doc. E8-18674 Filed 8-12-08; 8:45 am]

BILLING CODE 4312-50-S